DEPARTMENT OF TRANSPORTATION

Federal Aviation Administration

14 CFR Part 71

[Docket No. FAA-2006-26116; Airspace Docket No. 067-AEA-015]

Establishment of Class E-2 Airspace; Griffiss Airfield, Rome, NY

AGENCY: Federal Aviation Administration (FAA), DOT.

ACTION: Final rule.

SUMMARY: This notice establishes Class E-2 airspace at Griffiss Airfield, Rome, NY. The opening of a tower and for the protection of instrument approaches make this action necessary. Controlled airspace extending upward from the surface to the base of the overlying controlled airspace is needed to contain aircraft executing an approach. The area would be depicted on aeronautical charts for pilot reference. This was published in the Federal Register on November 17, 2006. 71 FR 66894.

EFFECTIVE DATE: 0901 UTC January 18, 2007. The Director of the Federal Register approves this incorporation by reference action under 1 CFR 51, subject to the annual revision of FAA Order 7400.9 and publication of conforming amendments.

FOR FURTHER INFORMATION CONTACT: Mr. Francis T. Jordan, Jr., Airspace Specialist, Airspace Branch, AEA-520 FAA Eastern Region, 1 Aviation Plaza, Jamaica, NY 11434-4809: telephone: (718) 553-4521.

SUPPLEMENTARY INFORMATION:

History

On November 28, 2006 a notice proposing to amend Part 71 of the Federal Aviation Regulations (14 CFR Part 71) by establishing Class E-2 airspace extending upward from the surface to the base of the overlying controlled airspace within a 4.5 mile radius of the Griffiss Airfield, Rome, NY, was published in the Federal Register. Interested parties were invited to participate in this rulemaking by submitting written comments on the Proposal to the FAA on or before December 29, 2006. No comments to the proposal were received. The rule is adopted as proposed. The coordinates for this airspace docket are based on North American Datum 83.

The Rule

This amendment to Part 71 of the Federal Aviation Regulations (14 CFR part 71) provides controlled Class E-2 airspace at Griffiss AFB, Rome, NY. The opening of a tower and for the protection of Instrument Approaches makes this action necessary. Controlled airspace extending upward from the surface to the base of the overlying controlled airspace is needed to accommodate the SIAPs. That airspace would extend from the surface to the base of the overlying controlled airspace within a 4.5 mile radius of the Griffiss Airfield, Rome, NY, and within 2 miles each side of bearing 135°/315° from a point at Lat 43°14.02′ N, Long 75°24.25′ W, extending from the 4.5 mile radius zone, to a point 10.5 miles NW and 10.5 miles SE of the airport. The class E-2 airspace area would be effective during the specific dates and times established in advance by a notice to airmen. The effective date and time would thereafter be continuously published in the Airport/Facility Directory. Class E-2 airspace designations for airspace areas extending upward from the surface of the earth are published in Paragraph 6002 of FAA Order 7400.9P, dated September 1, 2006, and effective September 15, 2006, which is incorporated by reference in 14 CFR 71.1. The Class E-2 airspace designation listed in this document would be published subsequently in the Order.

The FAA has determined that this proposed regulation only involves an established body of technical regulations for which frequent and routine amendments are necessary to keep them operationally current. Therefore, this proposed regulation, (1) is not a “significant regulatory action” under Executive Order 12866; (2) is not a “significant rule” under DOT Regulatory Policies and Procedures (44 FR 11034; February 26, 1979); and (3) does not warrant preparation of a regulatory evaluation as the anticipated impact is so minimal. Since this is a routine matter that would only affect air traffic procedures and air navigation, it is certified that this proposed rule would not have significant economic impact on a substantial number of small entities under the criteria of the Regulatory Flexibility Act.

List of Subjects in CFR Part 71

Airspace, Incorporation by reference, Navigation (air).

In consideration of the foregoing, the Federal Aviation Administration amends 14 CFR part 71 as follows:

PART 71—[AMENDED]

1. The authority citation for 14 CFR part 71 continues to read as follows:

Authority: 49 U.S.C. 106(g), 40103, 40113, 40120; EO 10854, 24 FR 9565, 3 CFR, 1959-1963 Comp., p. 389.

§ 71.1 [Amended]

2. The incorporation by reference in 14 CFR 71.1 of Federal Aviation Administration Order 7400.9P dated September 1, 2006, and effective September 15, 2006, is amended as follows:

Paragraph 6002 Class E-2 airspace areas extending upward from the surface of the earth

AEA NY (D) Griffiss Airfield [New]

Rome, NY

(Lat. 43°14′02″ N., long. 75°24′25″ W.)

That airspace extending upward from the surface to the base of the overlying controlled airspace with a 4.5 mile radius of the Griffiss Airfield, Rome, NY, and within 2 miles each side of bearing 135°/315° from a point at Lat. 43°14.02′ N., Long. 75°24.25′ W., extending from the 4.5 mile radius zone, to a point 10.5 miles NW. and 10.5 miles SE. of the airport. The Class E-2 airspace area is effective during the specific dates and times established in advance by a notice to airmen. The effective date and time thereafter be continuously published in the Airport/Facility Directory.

Issued in Jamaica, New York, on December 21, 2006.
Mark D. Ward,
Manager, System Support Group.

[FR Doc. 07-298 Filed 1-24-07; 8:45 am]

BILLING CODE 4910-13-M